DEPARTMENT OF COMMERCE

National Oceanic and Atmospheric Administration

[I.D. 121106B]

Endangered Species; File No. 1581

AGENCY: National Marine Fisheries Service (NMFS), National Oceanic and Atmospheric Administration (NOAA), Commerce.

ACTION: Notice; issuance of permit.

SUMMARY: Notice is hereby given that the National Marine Fisheries Service, Pacific Islands Fisheries Science Center (Responsible Official—Samuel Pooley, Principal Investigator—George Balazs), 2570 Dole Street, Honolulu, HI 96822 has been issued a permit to take green (Chelonia mydas) and hawksbill (Eretmochelys imbricata) sea turtles for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Pacific Islands Region, NMFS, 1601 Kapiolani Blvd., Rm 1110, Honolulu, HI 96814-4700; phone (808)973-2935; fax (808)973-2941.

FOR FURTHER INFORMATION CONTACT: Kate Swails or Patrick Opay (301)713-2289.

SUPPLEMENTARY INFORMATION: On September 27, 2006 notice was published in the Federal Register (71 FR 56478) that a request for a scientific research permit to take green and hawksbill sea turtles had been submitted by the above-named organization. The requested permit has been issued under the authority of the Endangered Species Act of 1973, as amended (ESA; 16 U.S.C. 1531 et seq.) and the regulations governing the taking, importing, and exporting of endangered and threatened species (50 CFR parts 222-226).

Researchers will annually capture up to 600 green and 10 hawksbill sea turtles by hand, scoop net, entanglement net, and bullpen net. All green sea turtles will be measured, weighed, passive integrated transponder tagged, and flipper tagged. A subset of green sea turtles will have their shell etched with an identification mark, be blood sampled, tissue sampled, lavaged, and have an electronic tag attached to them. Hawksbill sea turtles will be measured, weighed, passive integrated transponder tagged, flipper tagged, blood sampled, and tissue sampled. All animals will be released alive. The permit is issued for five years.

Issuance of this permit, as required by the ESA, was based on a finding that such permit (1) was applied for in good faith, (2) will not operate to the disadvantage of any endangered or threatened species, and (3) is consistent with the purposes and policies set forth in section 2 of the ESA.

Dated: December 13, 2006.
P. Michael Payne,
Chief, Permits, Conservation and Education Division, Office of Protected Resources, National Marine Fisheries Service.

[FR Doc. E6-21608 Filed 12-18-06; 8:45 am]

BILLING CODE 3510-22-S